DEPARTMENT OF HOMELAND SECURITY

Coast Guard

33 CFR Parts 100 and 165

[Docket Number USCG-2011-0551]

RIN 1625-AA00; 1625-AA08

Special Local Regulation and Safety Zone; America's Cup Sailing Events, San Francisco, CA

AGENCY: Coast Guard, DHS.

ACTION: Temporary final rule.

SUMMARY: The Coast Guard is establishing a special local regulation and a safety zone for sailing regattas that may be conducted on the waters of San Francisco Bay adjacent to the City of San Francisco waterfront in the vicinity of the Golden Gate Bridge and Alcatraz Island. This rule will regulate the on-water activities associated with the “2012 America's Cup World Series” regatta scheduled for August 21-26, 2012; and the “Louis Vuitton Cup,” “Red Bull Youth America's Cup,” and “America's Cup Finals Match” scheduled to occur in July, August, and September, 2013. These regulations are necessary to provide for the safety of life on the navigable waters immediately prior to, during, and immediately after any regattas that may occur. The regulation will temporarily restrict vessel traffic in a portion of the San Francisco Bay, prohibit vessels not participating in the America's Cup sailing events from entering the designated race area, and create a temporary safety zone around racing vessels.

DATES: Section 100.T11-0551A is effective from August 21, 2012, until August 26, 2012. Section 100.T11-0551B is effective from July 4, 2013, until September 23, 2013. Section 165.T11-0551 is effective from August 21, 2012, until September 23, 2013.

ADDRESSES: Documents mentioned in this preamble are part of docket USCG-2011-0551. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email Lieutenant DeCarol Davis, U.S. Coast Guard Sector San Francisco, Waterways Management Division, U.S. Coast Guard; telephone (415) 399-7443, email DeCarol.A.Davis@uscg.mil. If you have questions on viewing or submitting material to the docket, call Renee V. Wright, Program Manager, Docket Operations, telephone (202) 366-9826.

SUPPLEMENTARY INFORMATION:

Table of Acronyms

ACRM America's Cup Race Management

CFR Code of Federal Regulations

COTP Captain of the Port

DHS Department of Homeland Security

FR Federal Register

MEP Marine Event Permit

NEPA National Environmental Policy Act

NPRM Notice of Proposed Rulemaking

NPS National Park Service

VTS Vessel Traffic Service

A. Regulatory History and Information

On January 30, 2012, the Coast Guard published a notice of proposed rulemaking (NPRM) proposing regulations to protect public safety if the 34th America's Cup sailing races occur, as proposed, in 2012 and 2013 on San Francisco Bay. See 77 FR 4501. The Coast Guard provided a 90-day period for public comment on the proposed regulations, and also accepted public comments that arrived shortly after the close of that comment period. The Coast Guard also held three public meetings to gather information pertaining to activities on the Bay that might be affected by the America's Cup events or related safety regulations. A record of these meetings is available in the docket, which you may access following the procedure outlined in the ADDRESSES section above. We received a total of 77 comments during the public comment period.

The Coast Guard considered the public input received through the docket and at these meetings when developing this rule. Typical comments included the following: the need for clarification on the dates and times of the races; concern about the effects of the rule on recreational users' access to the Bay during the events; and general concerns about the events' impact on commerce. These concerns are discussed below.

B. Basis and Purpose

Under 33 CFR 100.35, the Coast Guard District Commander has authority to promulgate certain special local regulations deemed necessary to ensure the safety of life on the navigable waters immediately before, during, and immediately after an approved regatta or marine parade. The Commander of Coast Guard District 11 has delegated to the Captain of the Port (COTP) San Francisco the responsibility of issuing such regulations. The COTP also has the authority to establish safety zones under 33 CFR 1.05-1(f) and 165.5.

The America's Cup Race Management (ACRM) has applied for a Marine Event Permit (MEP) to hold the 34th America's Cup sailing events on the waters of San Francisco Bay in California, and that application is still pending. The Coast Guard's approval of the ACRM permit application is contingent upon completion of the Environmental Assessment (EA) of the MEP (referred to in this document as the “Permitting EA”) under the National Environmental Policy Act (NEPA). On June 8, 2012, the Permitting EA was made available for public comment at www.americascupnepa.org. The Permitting EA associated with the MEP addresses the impact of this rule, as well as other issues. The Permitting EA was conducted jointly with the National Park Service and other federal agencies and addresses both land and water environmental impacts, including the on-water impacts of this special local regulation and safety zone. To accommodate the additional time required to complete the Permitting EA, while still providing public notice of and benefiting from public comment on the safety provisions of this rule, we conducted this rulemaking before approval of the MEP. As part of the rulemaking, we provided an environmental analysis of the specific on-water environmental impacts of the rule (“Rulemaking EA”). The Permitting EA is broader than, and encompasses the topics of, the Rulemaking EA.

We anticipate that this special local regulation and safety zone will be necessary to ensure public safety during the sailing events should the MEP be approved. If the MEP is not approved, however, we will withdraw this rule.

C. Discussion of Comments, Changes and the Final Rule

The Coast Guard conducted widespread public outreach to better understand the potential impacts of this rule on commercial operations and recreational activities on the Bay. To provide the public with an opportunity to comment on this rulemaking process, the Coast Guard held three public meetings and established a 90-day comment period. As noted above, we received a total of 77 comments. Of those comments received, 87 percent came from recreational users, 7 percent came from environmental organizations, and 6 percent came from commercial vessel operators.

Comments on Access to the Bay

The majority of comments received from recreational users came from the boardsailing community, which includes windsurfers and kitesurfers. Many boardsailors raised concerns about limited waterfront access adjacent to Crissy Field and the on-water areas near the Golden Gate Bridge amenable to boardsailing. Boardsailors indicated that the proposed rule would prevent their launching from Crissy Field, and environmental organizations raised similar concerns about recreational access.

In response to comments about waterfront access, this rule modifies the regulated area for 2012 to allow for more recreational access in vicinity of Crissy Field. The regulated area for 2012 will be smaller in size and located further east than the regulated area originally proposed in the NPRM. The size and location of this regulated area will encourage spectator-viewing ashore, provide greater recreational access to the western portion of the Bay near the Golden Gate Bridge, and minimize crowding in vicinity of Crissy Field. For these reasons, there is no longer a need for the Coast Guard to establish an “Area Closed to All Motorized Vessels and Vessels Greater Than 20 Feet” in 2012. We have therefore removed the proposed area from the 2012 special local regulation. We did not make similar modifications to the 2013 regulated area, however, because the size and location of that area is appropriate for the larger, faster vessels to be used in the 2013 events. Because the size and location of the regulated area for 2013 have not changed, the rule will maintain the “Area Closed to All Motorized Vessels and Vessels Greater Than 20 Feet” during the 2013 events.

To address concerns relating to access along the San Francisco waterfront in 2013, a transit zone will provide access to all the port facilities along the waterfront as proposed in the NPRM. This transit zone will enable both commercial and recreational users continued access to waterfront berths and facilities during the races. Depending on racing activity or spectator traffic, the Coast Guard may direct the use of “follow-me” boats to guide commercial and recreational users through the transit zone. To prevent crowding and congestion in this area, vessels are prohibited from loitering or anchoring in the transit zone.

Comments on the Enforcement Period

In addition to their concerns pertaining to limited access, many boardsailors expressed concern about the length of the proposed enforcement period of the special local regulation, which would have applied between noon and 5 p.m. on days designated for program events. Several comments from boardsailors indicated that much of the Bay Area's recreational boardsailing occurs after the work day during the week, which coincides with the proposed enforcement period. To address these concerns, the Coast Guard will modify the effective dates for 2012 and the effective dates and enforcement period for 2013. In this final rule, we will use the term “program dates” instead of “race dates” because some of the scheduled enforcement dates encompass activities other than racing, such as the opening day ceremonies.

Although the 2012 enforcement period will continue to be from noon to 5 p.m., the events will be shorter than proposed in the NPRM and include only 6 days of program activity instead of 12 program days during a 22 day period. The ACRM has recently proposed to conduct an additional America's Cup World Series event during the 2012 San Francisco Bay Fleet Week activities from October 4-7, 2012. If approved, that event may be covered by an existing regulation for Fleet Week, but would not be covered by this regulation.

In response to comments requesting that the enforcement period end earlier in the day in 2013, we have shifted the enforcement period one hour earlier to accommodate the recreational community. Enforcement will occur from 11 a.m. to 4 p.m. on designated program days between July 4 and September 23, 2013, and not from noon to 5 p.m. as originally proposed. Not every day during this enforcement period will be a program day, and enforcement will not occur on days when no programmed activity is scheduled.

Additionally, as noted in the NPRM, event activity will end earlier on some program days when fewer races are scheduled. The enforcement period will not exceed the dates or times specified in the rule.

The Coast Guard received several comments and suggestions about communicating to the public the dates and times when the rule is being enforced. For the 2012 races, a program calendar is available in the docket, and the Coast Guard will use a Broadcast Notice to Mariners over VHF Channel 16 to announce when enforcement begins and ends on each program day. For the 2013 races, a finalized program calendar will be posted in the docket no later than June 1, 2013. For the time being, a tentative program calendar is available in the docket. Notice of the finalized 2013 program calendar will be published in the Federal Register and the Local Notice to Mariners. The Coast Guard will also use a Broadcast Notice to Mariners to announce when enforcement begins and ends on each program day in 2013. Based on the public's comments, the Coast Guard intends to explore social media tools or other means to help inform and update the public on event activity. The Coast Guard will work with ACRM, local government agencies, port partners, and other maritime communities to ensure widest dissemination of information.

Comments on the Environmental Analysis

In addition to comments on recreational access, we received comments pertaining to the NEPA Rulemaking EA.

One comment suggested the public comment period for the Rulemaking EA was too short. The comment period on the Rulemaking EA was designed to coincide with the comment period for the rule, without delaying this final rule, and we believe it was adequate because of the limited subject of this rule and the number and quality of comments we did receive during the comment period. We also accepted and considered comments arriving after the close of the comment period on April 30, 2012.

Another comment questioned the adequacy of the Rulemaking EA in addressing impacts to eelgrass, birds, and other wildlife. These issues are discussed throughout the Rulemaking EA, including noting the location of known eelgrass beds in Figure BIO-3. Impact thresholds for these species are found on pages 4-8 and 4-9 of the Rulemaking EA. The analysis of impacts to these biological resources is found in the EA on pages 4-13 through 4-17.

Another comment asked that the Coast Guard describe the marine protective closures for sensitive resources and prescribe enforcement methods to ensure wildlife protective areas. We recognize the need to describe such existing protected areas for public awareness and have included a figure in the docket that demarcates the only Wildlife Protection Area (WPA) within the regulated area, at Crissy Field. This WPA, which extends 300 feet from shore, is established and regulated by the National Park Service (NPS) to prevent boats and other maritime activity from disturbing nesting snowy plovers on Crissy Field. During the America's Cup enforcement periods, we understand the NPS also intends to establish a 500 feet environmental buffer around Alcatraz Island, closed to all maritime activity, to protect nesting seabirds along the western cliffs of the island.

While the Coast Guard will use its authorities to enforce existing marine environmental protection regulations and provide assistance to other agencies when requested, the proposed creation of enforcement authorities, operational strategies for the Crissy Field WPA, or an environmental buffer proposed by another agency is outside of the scope of this rule, which is being promulgated to ensure the safety of life on the navigable waters in accordance with 33 CFR 100.35 and 165.5. Any new environmental protection regulations would be related to a determination of environmental harm, which was not found in relation to the implementation of this special local regulation and safety zone.

Another comment indicated that there were errors in the Rulemaking EA relating to the 2012 dates and concerns that the project description is unsettled. The Coast Guard acknowledges that the event dates were not finalized by the date of the EA and states on pages 1-1 and 1-2 of the Rulemaking EA that “The Marine Event Permit cannot be issued at this time as the details of AC34, including the exact nature of the sailing event, control measures, race dates, etc., are still being finalized.” As noted elsewhere in this discussion, the Permitting EA associated with the MEP will address the impact of this rule, as well as other issues.

Similarly, another comment stated that the Rulemaking EA was procedurally inadequate and that the EA and the special local regulation are “segmented.” The Coast Guard disagrees with this comment. As described in the Basis and Purpose section above and on pages 1-1 and 1-2 of the Rulemaking EA, the Coast Guard has made no decision on the MEP. The Coast Guard's approval of the MEP application is contingent upon completion of the Permitting EA, which is being conducted jointly with the NPS and will require more time for completion as it covers both land and water environmental impacts. As stated on page 2-1 of the Rulemaking EA, this rule “is unique among the other federal permits and approvals and requires a formal rulemaking process, in accordance with 33 CFR 100 and 165”; therefore, the Coast Guard determined that in order to accommodate the additional time required to complete the Permitting EA, while still providing public notice of and benefiting from public comment on the safety provisions of this rule, we conducted this rulemaking prior to the completion of the jointly executed Permitting EA and the approval of the MEP.

Under these circumstances, the Coast Guard is establishing this special local regulation and safety zone prior to a decision on the MEP or the completion of the Permitting EA. The Permitting EA is broader than, and will encompass the topics of, the Rulemaking EA. If the MEP is not approved, we will withdraw this rule.

A comment suggested that a full Environmental Impact Statement (EIS) should be prepared for this project. The Rulemaking EA analyzed all issues related to the proposed action and found that there would not be adverse impacts from implementing the SLR; therefore, an EIS is not required.

Another comment pertaining to the Rulemaking EA stated that Section 1.5 (Summary of Laws) should be amended to include the Migratory Bird Treaty Act (MBTA). The Coast Guard acknowledges its responsibility as a Federal agency under the MBTA to protect migratory birds. The Rulemaking EA on pages 4-17 and 4-18 contains analysis on the effects of this rule on colonial birds at Alcatraz. It states that “Because the proposed action does not add new vessels to the area, and because the proposed action zone encompasses the southwestern portions of Alcatraz during the 2013 events, the effects of the proposed action are negligible.” This issue, including a description of the MBTA and impacts related to colonial birds, is analyzed in the Permitting EA. This is appropriate because the action alternatives considered in the Permitting EA could have the potential to affect colonial birds.

Comments on Commercial Vessel Operations

In addition to those comments received from recreational users and environmental organizations concerned about the Rulemaking EA, the Coast Guard also received comments from representatives of the local maritime industry.

One operator shared concerns pertaining to the shipping industry's ability to meet work shift schedules. The Coast Guard acknowledges these concerns and the need for a safe and accessible waterway. The Coast Guard will make every effort to maximize the efficient use of the Bay and minimize delays for commercial vessels. As proposed in the NPRM, shipping traffic may continue to operate using the existing Deep Water (two-way) Traffic Lane during the America's Cup sailing races. The Regulated Navigation Area (RNA) specified in 33 CFR 165.1181 would continue to apply in this area. This RNA contains one-way provisions for certain vessels such as those greater than 1,600 gross tons carrying dangerous cargos. At the COTP's discretion, vessels in addition to those listed in the RNA could be restricted to one-way traffic as coordinated by the VTS. Such a one-way traffic scheme could allow more maneuvering space for transiting vessels and may reduce navigational obstacles.

Another comment expressed concern about the location of the contingent regulated area and its potential to interfere with shipping traffic. In the unlikely event that racing is planned in the contingent regulated area, it will only be conducted with COTP approval. If the COTP deems that racing would interfere with the commercial shipping traffic requiring transit through the contingent regulated area, then the race will be delayed, shortened, or terminated to accommodate commercial shipping schedules.

We also received a comment from a maritime labor representative that expressed concern for landside safety and security during the America's Cup sailing events. Coast Guard response to landside safety and security issues are outside of the scope of this rulemaking, which establishes regulations specific to the on-water activities associated with the marine event.

Ferry vessel operators expressed concern that the proposed positioning of the transit zone for 2013 does not fully allow ferry operators to maintain their schedules. For this reason, we are modifying the coordinates of the eastern portion of the transit zone to improve access to Piers 31 through 45. The eastern entrances of the transit zone may also be temporarily closed as races finish, as was proposed in the NPRM. Vessels are still prohibited from loitering or blocking the transit area. At the COTP's discretion, vessel movement in this zone can also be restricted to one-way traffic coordinated by the Patrol Commander.

We made no changes to the proposed restrictions on Anchorage 7 or the closure of shipping lanes.

The Coast Guard appreciates the comments and concerns brought forward during the NPRM public comment period. These comments have been reviewed, discussed, and incorporated into this rulemaking where changes were needed.

D. Regulatory Analyses

We developed this rule after considering numerous statutes and executive orders related to rulemaking. Below we summarize our analyses based on 13 of these statutes or executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders.

Although this rule restricts navigation on San Francisco Bay, these restrictions will only be in place in a small area for a limited time on specific dates. The entities most likely to be affected by this rule are commercial shipping vessels, ferry vessels, fishing vessels and pleasure craft engaged in recreational activities. We expect this event to be well publicized so that waterway users are able to plan their activities in advance to take into account any restrictions.

The rule does not exceed a five-hour period between noon and 5 p.m. on certain dates and 11 a.m. and 4 p.m. on other dates. On many race days, the affected period will be shorter. The entities affected will be permitted to navigate around the restricted area during these periods, and the rule creates a traffic scheme for doing so. The rule does not prevent commercial operators from conducting operations during the America's Cup sailing events. Shipping traffic may operate around the regulated area using the Deep Water (two-way) Traffic Lane. The San Francisco VTS will help facilitate the safe and efficient use of the waterways.

2. Small Entities

The Regulatory Flexibility Act of 1980 (RFA), 5 U.S.C. 601-612, as amended, requires Federal agencies to consider the potential impact of regulations on small entities during rulemaking. The Coast Guard received no comments from the Small Business Administration on this rule. The Coast Guard certifies under 5 U.S.C. 605(b) that this rule will not have a significant economic impact on a substantial number of small entities. We find that the rule has some effect on small entities, but does not have a significant economic impact on a substantial number of the entities. This rule affects the following entities, some of which might be small entities: (i) The owners or operators of commercial vessels intending to transit, operate, or anchor in a portion of the San Francisco Bay; and (ii) the owners and operators of recreational vessels using the regulated portion of San Francisco Bay.

Although this rule affects these small entities, this rule will not have a significant economic impact on a substantial number of small entities for several reasons: (i) This rule will restrict only a small portion of the waterway for a limited period of time; (ii) vessel traffic may pass safely around the area; (iii) vessel traffic may pass through the area with COTP approval; (iv) recreational vessel operators may use spaces outside of the affected areas; (v) the maritime public will be advised in advance of this regulated area via Broadcast Notice to Mariners; and (vi) at times of high traffic density anticipated in 2013, there will be a transit zone implemented to facilitate navigation. These measures have been implemented during similar marine events such as Fleet Week and have been successful.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule does not call for a new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and determined that this rule does not have implications for federalism.

6. Protest Activities

The Coast Guard respects the First Amendment rights of protesters. Protesters are asked to contact the person listed in the FOR FURTHER INFORMATION CONTACT section to coordinate protest activities so that your message can be received without jeopardizing the safety or security of people, places, or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children

We have analyzed this rule under Executive Order 13045, Protection of Children from Environmental Health Risks and Safety Risks. This rule is not an economically significant rule and does not create an environmental risk to health or risk to safety that may disproportionately affect children.

11. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

12. Energy Effects

This action is not a “significant energy action” under Executive Order 13211, Actions Concerning Regulations That Significantly Affect Energy Supply, Distribution, or Use.

13. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA) (42 U.S.C. 4321-4370f), and have concluded this action does not individually or cumulatively have a significant effect on the human environment. A copy of the environmental analysis is available in the docket.

List of Subjects

33 CFR Part 100

Marine safety, Navigation (water), Reporting and recordkeeping requirements, and Waterways.

33 CFR Part 165

Harbors, Marine safety, Navigation (water), Reporting and recordkeeping requirements, Security measures, and Waterways.

For the reasons discussed in the preamble, the Coast Guard amends 33 CFR parts 100 and 165 as follows:

PART 100—REGATTAS AND MARINE PARADES

1. The authority citation for part 100 continues to read as follows:

Authority: 33 U.S.C. 1233.

2. Add temporary § 100.T11-0551A to read as follows:

§ 100.T11-0551A Special Local Regulation; 2012 America's Cup World Series.

(a) Location. This special local regulation establishes regulated areas on the waters of San Francisco Bay located in the vicinity of the Golden Gate Bridge, Alcatraz Island, the City of San Francisco waterfront, and the Bay Bridge. Movement within marinas, pier spaces, and facilities along the City of San Francisco waterfront is not regulated by this rule.

(1) The following area is the Primary Regulated Area for the 2012 America's Cup sailing regattas: All waters of San Francisco Bay bounded by a line beginning at position 37°48′43″ N, 122°25′11″ W at the eastern end of Fisherman′ s Wharf Breakwater, running east to position 37°48′43″ N, 122°25′01″ W, running north to position 37°49′07″ N, 122°25′01″ W, running northwest to position 37°49′14″ N, 122°25′12″ W located south of Alcatraz Island, running west to position 37°49′14″ N, 122°27′13″ W, running south to position 37°48′23″ N, 122°27′13″ W, running eastward along the City of San Francisco shoreline, along the Municipal Pier, east across the mouth of Aquatic Park cove to the Fisherman′ s Wharf breakwater then east along the breakwater. All coordinates are North American Datum 1983.

(2) The following area is the Contingent Regulated Area for the 2012 America's Cup sailing regattas: All waters of San Francisco Bay bounded by a line connecting the following coordinates: 37°50′56″ N, 122°24′37″ W; 37°51′24″ N, 122°23′39″ W; 37°51′23″ N, 122°22′58″ W; 37°50′07″ N, 122°22′05″ W; 37°49′54″ N, 122°22′43″ W; 37°49′35″ N, 122°22′46″ W; 37°48′51″ N, 122°22′20″ W; 37°48′52″ N, 122°23′56″ W; 37°49′02″ N, 122°24′43″ W; 37°49′48″ N, 122°24′47″ W; and 37°50′55″ N, 122°24′37″ W. All coordinates are North American Datum 1983.

(b) Enforcement Period. The regulations in this section will be enforced between the hours of noon and 5 p.m. on designated program days between August 21, 2012, and August 26, 2012. The enforcement period may be curtailed earlier by the Captain of the Port (COTP) or Patrol Commander. Notice of the specific program dates and times will be issued via Broadcast Notice to Mariners and published by the Coast Guard in the Local Notice to Mariners and in the Federal Register.

(c) Definitions—(1) Patrol Commander. As used in this section, “Patrol Commander” or “PATCOM” means a Coast Guard Patrol Commander, including a Coast Guard coxswain, petty officer, or other officer, or a Federal, State, or local officer designated by the Captain of the Port San Francisco (COTP) to assist in the enforcement of the special local regulation.

(2) 2012 Race Area. As used in this section, “2012 Race Area” means an area within the Primary Regulated Area bounded by America's Cup support vessels, which will be marked by prominently displayed banners.

(3) Contingent Race Area. As used in this section, “Contingent Race Area” means an area within the Contingent Regulated Area bounded by America's Cup support vessels, which will be marked by prominently displayed banners.

(d) Special Local Regulations. (1) 2012 Race Area Restrictions. The 2012 Race Area is closed to all unauthorized vessel traffic, except for those permitted by the COTP or PATCOM.

(2) Contingent Race Area Restrictions. In the event the race area must be altered to accommodate a north-south wind direction or other shifts in weather, the restrictions in paragraph (d)(1) of this section will apply to the Contingent Race Area. In deciding whether to conduct races in the Contingent Race Area, the COTP will consider commercial shipping traffic that intends to operate in the Central Bay Precautionary Area west of Treasure Island. The COTP will issue Broadcast Notices to Mariners to publicize the use of the Contingent Race Area.

(3) Requesting Transit through Race Areas. Vessel operators who desire to enter or operate within the 2012 Race Area or the Contingent Race Area while those areas are restricted must contact the COTP or PATCOM to obtain permission to do so. Vessel operators given permission to enter or operate in those race areas must comply with all directions given to them by the COTP or PATCOM. Persons and vessels may request permission to enter a race area on VHF Channel 23A or through the Coast Guard Sector San Francisco Command Center via telephone at 415-399-3547.

(4) Closure of Shipping Lanes. Eastbound and Westbound San Francisco Bay Traffic Lanes will be closed to all vessels greater than or equal to 100 gross tons. Vessel traffic will be permitted to operate during the enforcement period using the Deep Water (two-way) Traffic Lane established in 33 CFR 165.1181. Vessels of 100 gross tons or greater that need to enter or operate within the closed traffic lanes shall obtain permission from the COTP by contacting the Vessel Traffic Service via VHF Channel 14.

(5) Control of Vessel Movement to Ensure Safety. (i) The COTP, or PATCOM as the designated representative of the COTP, may control the movement of all vessels operating on the navigable waters of San Francisco Bay when the COTP has determined that such orders are justified in the interest of safety by reason of weather, visibility, sea conditions, temporary port congestion, and other temporary hazardous circumstances.

(ii) When hailed or signaled by PATCOM, the hailed vessel must come to an immediate stop and comply with the lawful directions issued. Failure to comply with a lawful direction may result in additional operating restrictions, citation for failure to comply, or both.

(iii) The COTP may delay, shorten, or terminate any America's Cup race at any time it is deemed necessary.

(iv) After termination of the America's Cup races each day, the Coast Guard will issue a Broadcast Notice to Mariners to publicize the decision to resume normal operations.

3. Add temporary § 100.T11-0551B to read as follows:

§ 100.T11-0551B Special Local Regulation; 2013 America's Cup Sailing Events.

(a) Location. This special local regulation establishes regulated areas on the waters of San Francisco Bay located in the vicinity of the Golden Gate Bridge, Alcatraz Island, the City of San Francisco waterfront, and the Bay Bridge. Movement within marinas, pier spaces, and facilities along the City of San Francisco waterfront is not regulated by this rule.

(1) The following area is the Primary Regulated Area for the 2013 America′s Cup sailing events: All waters of San Francisco Bay bounded by a line beginning at position 37°48′12″ N, 122°24′04″ W located on the foot of Pier 23, running northeast to position 37°48′41″ N, 122°23′16″ W, running northwest to position 37°49′41″ N, 122°24′30″ W located east of Alcatraz Island, running west to position 37°49′41″ N, 122°27′35″ W, running southwest to position 37°49′02″ N, 122°28′21″ W, running south to position 37°48′32″ N, 122°28′21″ W, and running eastward along the City of San Francisco shoreline ending at position 37°48′12″ N, 122°24′04″ W located on the foot of Pier 23. All coordinates are North American Datum 1983.

(2) The following area is the Contingent Regulated Area for the 2013 America′s Cup sailing events: All waters of San Francisco Bay bounded by a line connecting the following coordinates: 37°50′56″ N, 122°24′37″ W; 37°51′24″ N, 122°23′39″ W; 37°51′23″ N, 122°22′58″ W; 37°50′07″ N, 122°22′05″ W; 37°49′54″ N, 122°22′43″ W; 37°49′35″ N, 122°22′46″ W; 37°48′51″ N, 122°22′20″ W; 37°48′52″ N, 122°23′56″ W; 37°49′02″ N, 122°24′43″ W; 37°49′48″ N, 122°24′47″ W; and 37°50′55″ N, 122°24′37″ W. All coordinates are North American Datum 1983.

(b) Enforcement Period. The following regulations will be enforced between the hours of 11 a.m. and 4 p.m. on designated program days between July 4, 2013, and September 23, 2013. The enforcement period may be curtailed earlier by the Captain of the Port (COTP) or Patrol Commander. Notice of the specific program dates and times will be issued via Broadcast Notice to Mariners and published by the Coast Guard in the Local Notice to Mariners and in the Federal Register.

(c) Definitions—(1) Patrol Commander. As used in this section, “Patrol Commander” or “PATCOM” means a Coast Guard Patrol Commander, including a Coast Guard coxswain, petty officer, or other officer, or a Federal, State, or local officer designated by the Captain of the Port San Francisco (COTP) to assist in the enforcement of the special local regulation.

(2) 2013 Race Area. As used in this section, “2013 Race Area” means an area within the Primary Regulated Area bounded by America's Cup support vessels, which will be marked by prominently displayed banners.

(3) Contingent Race Area. As used in this section, “Contingent Race Area” means an area within the Contingent Regulated Area bounded by America's Cup support vessels, which will be marked by prominently displayed banners.

(d) Special Local Regulations—(1) 2013 Race Area Restrictions. The 2013 Race Area is closed to all unauthorized vessel traffic, except for those permitted by the COTP or PATCOM.

(2) Contingent Race Area Restrictions. In the event the race area must be altered to accommodate a north-south wind direction or other shifts in weather, the restrictions in paragraph (d)(1) of this section will apply to the Contingent Race Area. In deciding whether to conduct races in the Contingent Race Area, the COTP will consider commercial shipping traffic that intends to operate in the Central Bay Precautionary Area west of Treasure Island. The COTP will issue Broadcast Notices to Mariners to publicize the use of the Contingent Race Area.

(3) Requesting Transit through Race Areas. Vessel operators who desire to enter or operate within the 2013 Race Area or the Contingent Race Area while those areas are restricted must contact the COTP or PATCOM to obtain permission to do so. Vessel operators given permission to enter or operate in those race areas must comply with all directions given to them by the COTP or PATCOM. Persons and vessels may request permission to enter a race area on VHF Channel 23A or through the Coast Guard Sector San Francisco Command Center via telephone at 415-399-3547.

(4) Area Closed to All Motorized Vessels and Vessels Greater Than 20 Feet. Within the Primary Regulated Area, the following area is established for swimmers, rowers, kayakers, and non-motorized vessels of 20 feet or less: The area bounded by a line beginning at position, 37°48′32″ N, 122°26′24″ W, running west to position 37°48′32″ N, 122°28′00″ W, running northwest to position 37°48′40″ N, 122°28′21″ W, running south to position 37°48′32″ N, 122°28′21″ W, running eastward along the City of San Francisco shoreline, and ending at the beginning position 37°48′32″ N, 122°26′24″ W. All coordinates are North American Datum 1983. This area is closed to all motorized vessels and all other vessels greater than 20 feet. All vessels are prohibited from anchoring in this designated area.

Note to paragraph (d)(4): This area contains an existing National Park Service Wildlife Protection Area (WPA), along Crissy Field extending 300 feet from shore, which is closed to all vessels. The WPA is established in the Golden Gate National Recreation Area's 2012 Superintendent's Compendium of Designations, Closures, Permit Requirements and Other Restrictions Imposed under Designated Authority. The Coast Guard regulation described in this paragraph does not supersede the National Park Service's existing regulations for this WPA.

(5) No-Loitering Area. No vessels may anchor or loiter in the navigable waters south of the 2013 Race Area, east of the area defined in paragraph (d)(4) of this section, and west of Aquatic Park, except with the permission of PATCOM.

(6) Transit Zone. Within the Primary Regulated Area, a transit zone, approximately 200 yards in width, is established along the City of San Francisco waterfront. The transit zone will begin at the face of Pier 23, run westward along the pier faces to the Municipal Pier, and continue westward to the northern boundary of the area defined in paragraph (d)(4) of this section. This transit zone is bounded by the following coordinates: 37°48′40″ N, 122°28′21″ W; 37°48′32″ N, 122°28′00″ W; 37°48′32″ N, 122°26′24″ W; 37°48′39″ N, 122°25′27″ W; 37°48′23″ N, 122°25′13″ W; 37°48′41″ N, 121°24′30″ W; 37°48′28″ N, 121°24′04″ W; 37°48′17″ N, 121°23′54″ W; 37°48′21″ N, 122°23′49″ W; 37°48′33″ N, 122°24′00″ W; 37°48′36″ N, 122°24′07″ W; 37°49′15″ N, 122°24′00″ W; 37°49′21″ N, 122°24′05″ W; 37°48′48″ N, 122°24′40″ W; 37°48′49″ N, 122°25′16″ W; 37°48′37″ N, 122°26′22″ W; 37°48′37″ N, 122°28′00″ W; 37°48′47″ N, 122°28′21″ W; (NAD 83). This transit zone is for vessels that need to access pier space or facilities at, or to transit along, the City of San Francisco waterfront. It may be marked by America's Cup support vessels. No vessel may anchor, block, loiter in, or otherwise impede transit in the transit zone. In the event the eastern sections of the transit zone are temporarily closed for vessel safety as races finish, vessels must follow the procedures in paragraph (d)(3) of this section to request access.

(7) Anchorage 7 Restrictions. No vessel may anchor in Anchorage No. 7, delineated at 33 CFR 110.224(e)(4), except with the permission of the COTP. Vessels encountering emergencies that require anchoring in Anchorage 7 should contact the Sector San Francisco Vessel Traffic System (VTS) on VHF Channel 14.

(8) Closure of Shipping Lanes. Eastbound and Westbound San Francisco Bay Traffic Lanes will be closed to all vessels greater than or equal to 100 gross tons. Vessel traffic will be permitted to operate during the America's Cup sailing races using the Deep Water (two-way) Traffic Lane established in 33 CFR 165.1181. Vessels of 100 gross tons or greater that need to enter or operate within the closed traffic lanes shall obtain permission from the COTP by contacting the VTS via VHF Channel 14.

(9) Control of Vessel Movement to Ensure Safety. (i) The COTP, or PATCOM as the designated representative of the COTP, may control the movement of all vessels operating on the navigable waters of San Francisco Bay when the COTP has determined that such orders are justified in the interest of safety by reason of weather, visibility, sea conditions, temporary port congestion, and other temporary hazardous circumstances.

(ii) When hailed or signaled by PATCOM, the hailed vessel must come to an immediate stop and comply with the lawful directions issued. Failure to comply with a lawful direction may result in additional operating restrictions, citation for failure to comply, or both.

(iii) The COTP may delay, shorten, or terminate any America's Cup race at any time it is deemed necessary to ensure safety.

(iv) After termination of the America's Cup races each day, the Coast Guard will issue a Broadcast Notice to Mariners to publicize the decision to resume normal operations.

PART 165—REGULATED NAVIGATION AREAS AND LIMITED ACCESS AREAS

4. The authority citation for Part 165 continues to read as follows:

Authority: 33 U.S.C. 1231; 46 U.S.C. Chapter 701, 3306, 3703; 50 U.S.C. 191, 195; 33 CFR 1.05-1, 6.04-1, 6.04-6, 160.5; Public Law 107-295, 116 Stat. 2064; Department of Homeland Security Delegation No. 0170.1.

5. Add a new temporary section § 165.T11-0551 to read as follows:

§ 165.T11-0551 Safety Zone; America's Cup Sailing Events.

(a) Definitions—(1) America's Cup Racing Vessel. As used in this section, “America's Cup Racing Vessel” means an official competing vessel of the 34th America's Cup sailing events.

(2) Patrol Commander. As used in this section, “Patrol Commander” or “PATCOM” means a Coast Guard Patrol Commander, including a Coast Guard coxswain, petty officer, or other officer, or a Federal, State, or local officer designated by the Captain of the Port San Francisco (COTP) to assist in the enforcement of the safety zone.

(b) Location and enforcement period. A safety zone extends 100 yards around America's Cup Racing Vessels from noon until 5 p.m. on program days between August 21, 2012, and August 26, 2012; and from 11 a.m. until 4 p.m. on program days between July 4, 2013, and September 23, 2013. The enforcement period may be curtailed earlier by the Captain of the Port (COTP) or Patrol Commander. Notice of the specific program dates and times will be issued via Broadcast Notice to Mariners and published by the Coast Guard in the Federal Register.

(c) Regulations. (1) The provisions of 33 CFR 165.23 apply to this safety zone. No person or vessel underway may enter or remain within 100 yards of an America's Cup Racing Vessel unless authorized by PATCOM.

(2) This safety zone shall not relieve any vessel, including America's Cup Racing Vessels, from the observance of the Navigation Rules.

(3) To request authorization to operate within 100 yards of an America's Cup Racing Vessel, contact PATCOM on VHF Channel 23A.

(4) When conditions permit, PATCOM should:

(i) Permit vessels constrained by their navigational draft or restricted in their ability to maneuver to pass within 100 yards of America's Cup Racing Vessels in order to ensure a safe passage in accordance with the Navigation Rules; and

(ii) Permit vessels anchored in a designated anchorage area to remain at anchor when within 100 yards of a passing America's Cup Racing Vessel.

Dated: July 9, 2012.
Cynthia L. Stowe,
Captain, U.S. Coast Guard, Captain of the Port San Francisco.

[FR Doc. 2012-17305 Filed 7-16-12; 8:45 am]

BILLING CODE 9110-04-P